DEPARTMENT OF ENERGY

Federal Energy Regulatory Commission

[Docket Nos. CP04-37-000, CP04-44-000, CP04-45-000, and CP04-46-000]

Corpus Christi LNG, L.P., Cheniere Corpus Christi Pipeline Company; Notice of Applications

January 2, 2004.

Take notice that on December 22, 2003, Corpus Christi LNG, L.P. (Corpus LNG) filed an application seeking authorization to site, construct and operate a liquefied natural gas (LNG) terminal located near Corpus Christi, Texas. The LNG terminal will provide LNG tanker terminal services to third party shippers who would be importing LNG. Corpus LNG seeks authorization to site, construct and operate the LNG terminal pursuant to section 3(a) of the Natural Gas Act (NGA) and part 153 of the Federal Energy Regulatory Commission(s (Commission) regulations. Corpus LNG also requests the approval of the Corpus LNG terminal as the place of entry for the imported LNG supplies (Docket No. CP04-37-000).

Also take notice that on December 22, 2003, Cheniere Corpus Christi Pipeline Company (Cheniere Corpus Pipeline) filed an application seeking a certificate of public convenience and necessity, pursuant to section 7(c) of the NGA and part 157, subpart A of the Commission's regulations, to construct and operate a 24 mile pipeline and related facilities to transport natural gas on an open access basis (Docket No. CP04-44-000). Also, in Docket No. CP04-45-000, Cheniere Corpus Pipeline requests a blanket certificate under section 7(c) of the NGA and part 157, subpart F of the Commission's regulations to perform routine activities in connection with the future construction, operation and maintenance of the proposed 24 mile pipeline. Finally, Cheniere Corpus Pipeline requested authorization in Docket No. CP04-46-000 to provide the natural gas transportation services on a firm and interruptible basis pursuant to section 7(c) of the NGA and part 284 of the Commission(s Regulations.

These applications are on file with the Commission and open to public inspection. These filings are available for review at the Commission in the Public Reference Room or may be viewed on the Commission's Web site at http://www.ferc.gov using the “eLibrary” link. Enter the docket number excluding the last three digits in the docket number field to access the document. For assistance, please contact FERC Online Support at FERCOnlineSupport@ferc.gov or toll free at (866) 208-3676, or for TTY, contact (202) 502-8659. Any initial questions regarding these applications should be directed to Keith M Meyer, 333 Clay Street, Suite 3400, Houston, Texas. Phone: (713) 659-1361.

Cheniere Corpus Pipeline will conduct a 30-day open season in January 2004 for the purpose of obtaining binding commitments for firm transportation capacity. Cheniere Corpus Pipeline says that the construction and operation of the pipeline will enable new competitively priced supplies of natural gas imported through the Corpus LNG terminal to reach markets throughout the U.S.

The National Environmental Policy Act (NEPA) review of the proposals will begin only after the Cultural Resources information required in part 380, appendix A, section 380.12 of the regulations has been filed with the Commission and found by staff to be sufficient. Based on the historic processing timeline for projects such as this one that use the traditional authorization process, we anticipate that a Draft Environmental Impact Statement would be issued for public comment about 8 to 10 months after the NEPA process has commenced.

There are two ways to become involved in the Commission's review of this project. First, any person wishing to obtain legal status by becoming a party to the proceedings for this project should, on or before the below listed comment date, file with the Federal Energy Regulatory Commission, 888 First Street, NE., Washington, DC 20426, a motion to intervene in accordance with the requirements of the Commission's rules of practice and procedure (18 CFR 385.214 or 385.211) and the regulations under the NGA (18 CFR 157.10). A person obtaining party status will be placed on the service list maintained by the Secretary of the Commission and will receive copies of all documents filed by the applicant and by all other parties. A party must submit 14 copies of filings made with the Commission and must mail a copy to the applicant and to every other party in the proceeding. Only parties to the proceeding can ask for court review of Commission orders in the proceeding.

However, a person does not have to intervene in order to have comments considered. The second way to participate is by filing with the Secretary of the Commission, as soon as possible, an original and two copies of comments in support of or in opposition to this project. The Commission will consider these comments in determining the appropriate action to be taken, but the filing of a comment alone will not serve to make the filer a party to the proceeding. The Commission's rules require that persons filing comments in opposition to the project provide copies of their protests only to the party or parties directly involved in the protest.

Persons who wish to comment only on the environmental review of this project should submit an original and two copies of their comments to the Secretary of the Commission. Those providing environmental comments will be placed on the Commission's environmental mailing list, will receive copies of the environmental documents, and will be notified of meetings associated with the Commission's environmental review process. The environmental commenters will not be required to serve copies of filed documents on all other parties. However, the non-party commenters will not receive copies of all documents filed by other parties or issued by the Commission (except for the mailing of environmental documents issued by the Commission) and will not have the right to seek court review of the Commission's final order.

Motions to intervene, protests and comments may be filed electronically via the internet in lieu of paper; see 18 CFR 385.2001(a)(1)(iii) and the instructions on the Commission's Web site under the “e-Filing” link. The Commission strongly encourages electronic filings.

Comment Date: January 23, 2004.

Linda Mitry,
Acting Secretary.

[FR Doc. E4-14 Filed 1-9-04; 8:45 am]

BILLING CODE 6717-01-P